DEPARTMENT OF AGRICULTURE

Cooperative State Research, Education, and Extension Service

Request for Applications (RFA): Outreach and Assistance for Socially Disadvantaged Farmers and Ranchers

AGENCY: Cooperative State Research Education, and Extension Service, USDA.

ACTION: Notice of request for applications and request for input.

SUMMARY: The Cooperative State Research, Education, and Extension Service (CSREES) announces the availability of grant funds and requests applications for the Outreach and Assistance for Socially Disadvantaged Farmers and Ranchers Competitive Grants Program (OASDFR). This program provides outreach and technical assistance to encourage and assist socially disadvantaged farmers and ranchers to own and operate farms and ranches and to participate in agricultural programs. Appropriations for this program from fiscal years (FYs) 2002 and 2003 will be combined to support projects submitted in response to this Request for Applications (RFA). The amount available for FY 2002 is approximately $3,243,000. The FY 2003 appropriations is not known at the time this notice is being published but is currently anticipated between 3 and 8 million dollars. Grants will be made for proposals found to be meritorious by a peer review panel to the extent that funds are available. However, there is no commitment by USDA to fund any particular proposal or to make a specific number of awards.

This notice identifies the objectives for OASDFR projects, the eligibility criteria for projects and applicants, and the application forms and associated instructions needed to apply for an OASDFR grant. CSREES additionally requests stakeholder input from any interested party for use in the development of the next RFA for this program.

DATES: Applications must be received by close of business (COB) on January 31, 2003 (5 p.m. Eastern Time). Applications received after this deadline will not be considered for funding. Requests for Determination must be received by COB November 22, 2002. Comments regarding this RFA are requested within six months from the issuance of this notice. Comments received after that date will be considered to the extent practicable.

ADDRESSES: The address for hand-delivered applications, or applications submitted using an express mail or overnight courier service is: Outreach and Assistance for Socially Disadvantaged Farmers and Ranchers Competitive Grants Program; c/o Proposal Services Unit; Cooperative State Research, Education, and Extension Service; U.S. Department of Agriculture; Room 1420, Waterfront Centre; 800 9th Street, SW., Washington, DC 20024; telephone: (202) 401-5048. Requests for Determination should be delivered or e-mailed to the program contact identified in Part I.D.

Written stakeholder comments should be mailed to: Policy and Program Liaison Staff; Office of Extramural Programs; USDA-CSREES; STOP 2299; 1400 Independence Avenue, SW., Washington, DC 20250-2299; or via e-mail to: RFP-OEP@reeusda.gov. (This e-mail address is intended only for receiving comments regarding this RFA and not requesting information or forms.) In your comments, please state that you are responding to the Outreach and Assistance for Socially Disadvantaged Farmers and Ranchers Competitive Grants Program RFA.

FOR FURTHER INFORMATION CONTACT: Dr. Elizabeth Tuckermanty, Program Director, Cooperative State Research, Education, and Extension Service; U.S. Department of Agriculture; STOP 2241, 1400 Independence Avenue, SW., Washington, DC 20250-2242; telephone: (202) 205-0241; fax: (202) 401-6488; e-mail: etuckermanty@reeusda.gov.

SUPPLEMENTARY INFORMATION:

Table of Contents

Stakeholder Input

Catalog of Federal Domestic Assistance

Part I—General Information

A. Legislative Authority and Background

B. Purpose, Priorities, and Fund Availability

C. Eligibility

D. Request for Determination

E. Indirect Costs

F. Matching Requirements

G. Funding Restrictions

H. Type of Application

Part II—Program Description

A. Project Types

B. Program Description

Part III—Preparation of an Application

A. Program Application Materials

B. Content of Applications

C. Submission of Applications

D. Acknowledgment of Applications

Part IV—Review Process

A. General

B. Evaluation Criteria

C. Conflicts-of-Interest and Confidentiality

Part V—Award Administration

A. General

B. Organizational Management Information

C. Award Document and Notice of Award

Part VI—Additional Information

A. Access to Review Information

B. Use of Funds; Changes

C. Expected Program Outputs and Reporting Requirements

D. Applicable Federal Statutes and Regulations

E. Confidential Aspects of Applications and Awards

F. Regulatory Information

G. Definitions

Stakeholder Input

CSREES is requesting comments regarding this RFA from any interested party. These comments will be considered in the development of the next RFA for the program. Such comments will be used to meet the requirements of section 103(c)(2) of the Agricultural Research, Extension, and Education Reform Act of 1998 (7 U.S.C. 7613(c)(2)). This section requires the Secretary to solicit and consider input on a current RFA from persons who conduct or use agricultural research, education and extension for use in formulating future RFA's for competitive programs. Comments should be submitted as provided for in the ADDRESSES and DATES portions of this Notice.

Catalog of Federal Domestic Assistance

This program is listed in the Catalog of Federal Domestic Assistance under 10.443, Outreach and Assistance for Socially Disadvantaged Farmers and Ranchers Program.

Part I—General Information

A. Legislative Authority and Background

Section 2501(a) of the Food, Agriculture, Conservation, and Trade Act of 1990, Public Law 101-624, November 28, 1990, (7 U.S.C. 2279(a)) authorizes the Secretary to make grants to eligible institutions and organizations so that they may provide outreach and technical assistance to encourage and assist socially disadvantaged farmers and ranchers to own and operate farms and ranches and to participate equitably in the full range of agricultural programs offered by the Department. This assistance shall enhance coordination of the outreach, technical assistance, and education efforts authorized under various agriculture programs and include information on and assistance with commodity, conservation, credit, rural, and business development programs, application and bidding procedures, farm and risk management, marketing and other activities essential to participation in agricultural and other programs of the Department.

The OASDFR brings the existing knowledge base to bear on farm and ranch management issues faced by socially disadvantaged farmers and ranchers throughout the Nation.

B. Purpose, Priorities, and Fund Availability

1. Purpose and Priorities

The primary purpose of the OASDFR is to deliver outreach and technical assistance, including educational programs, to enhance the potential of socially disadvantaged farmers and ranchers to successfully acquire, own, operate, and retain farms and ranches. The OASDFR will support a wide range of outreach and assistance activities in farm management, financial management, marketing, application and bidding procedures, and other areas.

Proposals need to identify the socially disadvantaged group(s) that is being targeted for assistance. (See Part VI.G., definition nos. 33 and 34.) Applicants must provide information to document why a targeted group(s) is appropriate for assistance under this program. If you are targeting a socially disadvantaged group not specified in the above definition(s), you must provide in-depth documentation justifying why this group(s) is socially disadvantaged. This document, entitled a Request for Determination, requests the Secretary to determine whether the targeted group qualifies under the Program. A determination by the Secretary or designated individual will be made and the applicant will be notified shortly thereafter. (See Part I.D., Request for Determination).

Proposed projects might include one or more of the following: The use of existing, and the formation of new, outreach and assistance networks focused on increasing participation in various USDA and other programs by socially disadvantaged agricultural producers; further development or modification of farm and ranch management (including marketing) and financial management curricula and materials designed to enhance the potential for farm and ranch ownership by socially disadvantaged farmers and ranchers; the development of innovative delivery systems that improve the effectiveness of these programs; and the development or improvement in the means by which assistance is provided to the targeted audiences.

Proposals need to incorporate a project evaluation component that will permit a qualitative and quantitative assessment of expected project impacts. How will success of the proposed project be measured? Such assessments need to relate to increases in participation rates in USDA programs and in increasing the ownership of farming and ranching operations by socially disadvantaged farmers and ranchers.

Priority will be given to projects that identify and document the outreach and assistance needs of socially disadvantaged farmers and ranchers as they exist at regional, State and local levels, and that propose effective educational and assistance programs that address those needs. It is incumbent upon the applicant(s) to adequately define and justify the needs of the disadvantaged group(s) the project is targeting. Proposed projects should, as appropriate, address needs as determined by: Producer audiences; commodity mixes in the area(s) of interest; types of outreach and assistance needs associated with available and appropriate USDA and other agricultural programs; production, marketing, financial, legal and human resource conditions in the area(s) being addressed; and/or other factors that hold the greatest potential for assisting these producers in gaining and maintaining ownership of their farms and ranches or that enhance the opportunity for ownership.

The OASDFR will also fund projects that provide OASDFR assistance in applying for and receiving aid under USDA programs administered by various agencies within the Department of Agriculture. These include but are not limited to loan programs, guaranteed loan programs, allocations of crop base in each program crop, and various conservation programs. Pertinent USDA agricultural programs include but are not limited to the following, identified by the Federal Domestic Assistance title and number: Emergency Conservation Program (10.054); Production and Flexibility Payments for Contract Commodities (10.055); Forestry Incentives Program (10.064); Conservation Reserve Program (10.069); Emergency Loans (10.404); Farm Ownership Loans (10.407); Great Plains Conservation (10.900); and Soil Survey (10.903). There may be other Federal and State agricultural programs that also could assist members of socially disadvantaged groups. Applicants should provide a brief, relevant synopsis on the program(s) they are incorporating in their proposed project.

2. Funds Availability

Appropriations for this program from fiscal years (FYs) 2002 and 2003 will be combined to support projects submitted in response to this Request for Applications. The amount available for FY 2002 is approximately $3,243,000. The FY 2003 appropriation is not known at the time this notice is being published but is currently anticipated between 3 and 8 million dollars. Grants will be made for proposals found to be meritorious by a peer review panel to the extent that funds are available. However, there is no commitment by USDA to fund any particular proposal or to make a specific number of awards.

Normally, awards will not exceed $100,000 per year for three years ($300,000 total) for Standard Projects (see Part II.A.). Any proposed project that exceeds these parameters will need to fully justify the increases. Conference/workshop awards will not normally exceed $10,000 and are limited to a one-year duration. However, conference/workshops that are regional or national in scope may receive larger awards, but normally will not exceed $25,000.

C. Eligibility

1. Applications may be submitted by:

(a) Any community-based organization, network, or coalition of community-based organizations that:

(i) has demonstrated experience in providing agricultural education or other agriculturally related services to socially disadvantaged farmers and ranchers;

(ii) as provided to the Secretary documentary evidence of work with socially disadvantaged farmers and ranchers during the two-year period preceding the submission of an application for assistance under this program (documentary evidence shall include a narrative providing specific information regarding: the scope of past projects, including the number of socially disadvantaged farmers and ranchers served or in the area served by the organization; activities conducted; community involvement; and copies of prior agreements, press releases, news articles, and other contemporaneous documents supporting the narrative); and

(iii) does not engage in activities prohibited under Section 501(c)(3) of the Internal Revenue Code of 1986.

(b) An 1890 institution or 1994 institution (as defined in section 2 of the Agricultural Research, Extension, and Education Reform Act of 1998 (7 U.S.C. 7601)), including West Virginia State College.

(c) An Indian Tribal Community College or an Alaska Native Cooperative College.

(d) An Hispanic-serving institution (as defined in section 1404 of the National Agricultural Research, Extension, and Teaching Policy Act of 1977 (7 U.S.C. 3103)).

(e) Any other institution of higher education (as defined in section 101 of the Higher Education Act of 1965 (20 U.S.C. 1001)) that has demonstrated experience in providing agriculture education or other agriculturally related services to socially disadvantaged farmers and ranchers in a region.

(f) An Indian tribe (as defined in section 4 of the Indian Self-Determination and Education Assistance Act (25 U.S.C. 450b)) or a national tribal organization that has demonstrated experience in providing agriculture education or other agriculturally related services to socially disadvantaged farmers and ranchers in a region.

(g) An organization or institution that received funding under this program before January 1, 1996, but only with respect to projects that the Secretary considers are similar to projects previously carried out by the organization or institution under this program.

Award recipients may subcontract to organizations not eligible to apply provided such organizations are necessary for the conduct of the project; however, the subcontracted amount may not exceed one-third of the total grant award.

D. Request for Determination

If an applicant proposes to fund a program targeted to a socially disadvantaged group(s) not specifically identified in the Definitions section of this RFA, the applicant must submit documentation supporting their request to CSREES by November 22, 2002. The Secretary or designated individual will determine whether the group or groups identified are eligible under this Program. The Request for Determination must be submitted as a separate letter (or e-mail to the program contact identified at the beginning of this RFA). The legend at the top of the letter must read “REQUEST FOR DETERMINATION.” In addition the following information must be provided in the order specified below:

(a) Description of Racial or Ethnic Group Submitted for Determination; and

(b) Data or Studies Supporting Designation of Racial, Ethnic or Socially Disadvantaged Group.

Each applicant in this category will be notified as to the outcome of the determination. If the determination is positive, the applicant will be invited to submit an application as outlined in this RFA by January 31, 2003.

E. Indirect Costs

Pursuant to section 1462 of the National Agricultural Research, Extension, and Teaching Policy Act of 1977, as amended (7 U.S.C. 3310), indirect costs for this program are limited to 19 percent of the total Federal funds provided under each award. Therefore, the recovery of indirect costs under this program may not exceed the lesser of the institution's official negotiated indirect cost rate or the equivalent of 19 percent of total Federal funds awarded. Another method of calculating the maximum allowable is 23.456 percent of the total direct costs. (This limitation also applies to the recovery of indirect costs by any subawardee or subcontractor, and should be reflected in the subrecipient budget.) If no rate has been negotiated, a reasonable dollar amount (equivalent to or less than 19 percent of total Federal funds requested) in lieu of indirect costs may be requested, subject to approval by USDA. This same indirect cost limitation applies to subcontracts.

F. Matching Requirements

There is no requirement for grant recipients to provide matching funds under this program.

G. Funding Restrictions

Program funds may not be used for the renovation or refurbishment of research, education or extension space; the purchase or installation of fixed equipment in such space; or the planning, repair, rehabilitation, acquisition, or construction of buildings or facilities.

H. Type of Application

All applications submitted to this Request for Applications (RFA) will be new requests to CSREES. Previous recipients of funds under this program may apply to this RFA. All applications must contain information requested under the “Content of Applications” section of this RFA (see Part III.B.), be received by the deadline date shown in Part III.C., and will be reviewed competitively using the selection process and evaluation criteria described in Part IV., Review Process.

Part II—Program Description

A. Project Types

1. Standard Projects

Standard Projects are those that provide assistance and outreach to socially disadvantaged farmers and ranchers with the ultimate aim of increasing and retaining ownership. Standard projects that incorporate multiple collaborators, particularly community-based collaborators, are encouraged. It is incumbent upon the applicants to document the potential impact of their project upon socially disadvantaged farmers and ranchers. Information as to the degree to which partnerships and collaborations enhance the services to be delivered, and the areas and numbers of the targeted audience that are expected to be served in terms of assistance should be provided. Outreach designed to inform the targeted audience of the assistance available through the OASDFR, and the expected outcomes in terms of increased ownership of farms and ranches are also important considerations that should be explicitly discussed. While the development of a needs assessment is acceptable, applicants should understand that proposals that utilize an existing needs assessment to justify their proposed project are often more competitive than those that have as one of the project objectives the development of a needs assessment. In addition, proposals which document how certain methodologies or results are transferable to other areas also strengthens a proposal.

Standard Project applicants are encouraged to coordinate with any existing regional projects and complement pertinent and relevant cross-regional activities. Proposals that build on existing information networks and offer innovative or expanded activities are encouraged. Applicants are encouraged to closely examine the evaluation criteria noted in Part IV.B. as they prepare their proposals.

In addition to the above, Standard Project proposals should address or target one or more of the specific items below:

(a) Meet a specialized OASDFR need that is local, State-specific, regional or national in scope, (e.g., national coordination of OASDFR efforts) and that has common characteristics that can be addressed in a single project. Projects that are local or State-specific need to provide evidence that the problem or need being addressed also exists elsewhere and that the methodologies and results may have application in these other areas.

(b) Be willing to share findings with other interested entities and organizations by providing information on methodologies, data, analytical techniques, findings, etc.

The amount requested must be commensurate with the activities proposed. Normally, Standard Project awards will not exceed $100,000 per year for a three-year duration (total of $300,000). However, with appropriate and compelling justification, larger awards may be granted and the time period may be extended to four years.

2. Conference and Workshop Proposals

Proposed conferences and workshops are important tools in providing assistance and outreach. They may be used by interested parties to gather and establish a needs assessment and determine priorities. Conference and workshops are an excellent vehicle to determine group needs, collect data and discuss other relevant issues. This information may, in turn, be used to develop a Standard Project proposal that addresses a group's needs. Alternatively, such meetings can serve to exchange information concerning past and present activities, and future needs. In addition, OASDFR conferences that promote program coordination, provide the opportunity to train educators on OASDFR project tools and methods, build community-based partnerships and collaborations, provide various techniques for individual project internal evaluations, and establish strategies that result in successful projects are also encouraged.

Conference and workshop applicants must set forth the purpose and need for the conference, ensure that an agenda is articulated, including a list of participant groups and experts on the proposed subject(s), and list speakers (invited and confirmed) with their expertise noted. (See Part III.B.5.) Awards for a conference or a workshop will normally not exceed $10,000. A larger amount may be awarded provided a conference is multi-regional or national in scope. Normally, these latter awards will not exceed $25,000.

B. Program Description

The primary purpose of the OASDFR is to deliver outreach and technical assistance, including educational programs, to enhance the potential of socially disadvantaged farmers and ranchers to successfully acquire, own, operate, and retain farms and ranches. The OASDFR will support a wide range of outreach and assistance activities in farm management, financial management, marketing, application and bidding procedures, and other areas. Proposed projects might include one or more of the following: The use of existing, and the formation of new, outreach and assistance networks focused on increasing participation in various USDA and other programs by socially disadvantaged agricultural producers; further development or modification of farm and ranch management (including marketing) and financial management curricula and materials designed to enhance the potential for farm and ranch ownership by socially disadvantaged farmers and ranchers; the development of innovative delivery systems that improve the effectiveness of these programs; and the development or improvement in the means by which assistance is provided to the targeted audiences.

Proposals need to incorporate a project evaluation component that will permit a qualitative and quantitative assessment of expected project impacts. How will success of the proposed project be measured? Such assessments need to relate to increases in participation rates in USDA programs and in increasing the ownership of farming and ranching operations by socially disadvantaged farmers and ranchers.

Priority will be given to projects that identify and document the outreach and assistance needs of socially disadvantaged farmers and ranchers as they exist at regional, State and local levels, and that propose effective educational and assistance programs that address those needs. It is incumbent upon the applicant(s) to adequately define and justify the needs of the disadvantaged group(s) the project is targeting. Proposed projects should, as appropriate, address needs as determined by: Producer audiences; commodity mixes in the area(s) of interest; types of outreach and assistance needs associated with available and appropriate USDA and other agricultural programs; production, marketing, financial, legal and human resource conditions in the area(s) being addressed; and/or other factors that hold the greatest potential for assisting these producers in gaining and maintaining ownership of their farms and ranches or that enhance the opportunity for ownership.

The OASDFR will also fund projects that provide OASDFR assistance in applying for and receiving aid under USDA programs administered by various agencies within the Department of Agriculture. These include but are not limited to loan programs, guaranteed loan programs, allocations of crop base in each program crop, and various conservation programs. Pertinent USDA agricultural programs include but are not limited to the following, identified by the Federal Domestic Assistance title and number: Emergency Conservation Program (10.054); Production and Flexibility Payments for Contract Commodities (10.055); Forestry Incentives Program (10.064); Conservation Reserve Program (10.069); Emergency Loans (10.404); Farm Ownership Loans (10.407); Great Plains Conservation (10.900); and Soil Survey (10.903). There may be other Federal and State agricultural programs that also could assist members of socially disadvantaged groups. Applicants should provide a brief, relevant synopsis on the program(s) they are incorporating in their proposed project.

Part III—Preparation of an Application

A. Program Application Materials

Program application materials are available at the CSREES Funding Opportunities Web site (http://www.reeusda.gov/1700/funding/ourfund.htm). If you do not have access to the Web page or have trouble downloading material and you would like a hard copy, you may contact the Proposal Services Unit, USDA/CSREES at (202) 401-5048. When calling the Proposal Services Unit, please indicate that you are requesting the RFA and associated application forms for the Outreach and Assistance for Socially Disadvantaged Farmers and Ranchers Competitive Grants Program. These materials also may be requested via Internet by sending a message with your name, mailing address (not e-mail) and phone number to psb@reeusda.gov. State that you want a copy of the Outreach and Assistance for Socially Disadvantaged Farmers and Ranchers Competitive Grants Program RFA and the associated application forms.

B. Content of Applications

The proposals should be prepared following the guidelines and the instructions below. Each proposal must contain the following elements in the order indicated:

1. General

Use the following guidelines to prepare an application. Proper preparation of applications will assist reviewers in evaluating the merits of each application in a systematic, consistent fashion:

(a) Prepare the application on only one side of the page using standard size (8½″ × 11″) white paper, one-inch margins, typed or word processed using no type smaller than 12 point font, and single or double spaced. Use an easily readable font face (e.g., Geneva, Helvetica, Times Roman).

(b) Number each page of the application sequentially, starting with the Project Description, including the budget pages, required forms, and any appendices.

(c) Staple the application in the upper left-hand corner. Do not bind. An original and 10 copies (11 total) must be submitted in one package, along with 15 additional copies of the “Project Summary,” Form CSREES-2003, as a separate attachment.

(d) Include original illustrations (photographs, color prints, etc.) in all copies of the application to prevent loss of meaning through poor quality reproduction.

(e) The contents of the application should be assembled in the following order:

(1) Proposal Cover Page (Form CSREES-2002)

(2) Table of Contents

(3) Project Summary (Form CSREES-2003)

(4) Project Description

(5) References

(6) Appendices to Project Description

(7) Key Personnel

(8) Collaborative Arrangements (including Letters of Support)

(9) Conflict-of-Interest List (Form CSREES-2007)

(10) Budget (Form CSREES-2004)

(11) Budget Narrative

(12) Current and Pending Support (Form CSREES-2005)

(13) Assurance Statement(s) (Form CSREES-2008)

(14) Compliance with the National Environmental Policy Act (NEPA) (Form CSREES-2006)

(15) Certification of Compliance to Section 501(c)(3) of the Internal Revenue Code of 1986

(16) Page B, Proposal Cover Page (Form CSREES-2002), Personal Data on Project Director

2. Proposal Cover Page (Form CSREES-2002)

Page A

Each copy of each grant application must contain a “Proposal Cover Page,” Form CSREES-2002. One copy of the application, preferably the original, must contain the pen-and-ink signature(s) of the proposing Project Director(s) (PD) and the authorized organizational representative (AOR), the individual who possesses the necessary authority to commit the organization's time and other relevant resources to the project. If there are more than four co-PDs for an application, please list additional co-PDs on a separate sheet of paper (with appropriate information and signatures) and attach to the Proposal Cover Page (Form CSREES-2002). Any proposed PD or co-PD whose signature does not appear on Form CSREES-2002 or attached additional sheets will not be listed on any resulting grant award. Complete both signature blocks located at the bottom of the “Proposal Cover Page” form. Please note that Form CSREES-2002 is comprised of two parts—Page A, which is the “Proposal Cover Page”, and Page B, which is the “Personal Data on Project Director.”

Form CSREES-2002 serves as a source document for the CSREES grant database; it is therefore important that it be accurately completed in its entirety, especially the e-mail addresses requested in Blocks 4.c. and 18.c. However, the following items are highlighted as having a high potential for errors or misinterpretations:

(a) Type of Performing Organization (Block 6.a. and 6.b.). For Block 6.a., a check should be placed in the appropriate box to identify the type of organization which is the legal recipient named in Block 1. Only one box should be checked. For Block 6.b., please check as many boxes that apply to the affiliation of the PD listed in Block 16.

(b) Title of Proposed Project (Block 7.). The title of the project must be brief (140-character maximum, including spaces), yet represent the major thrust of the effort being proposed.

(c) Program to Which You Are Applying (Block 8.). Enter “Outreach and Assistance for Socially Disadvantaged Farmers and Ranchers Competitive Grants Program.” Designate whether your application is for a “Standard Project,” “Conference” or “Workshop.”

(d) Type of Request (Block 14.). Check the block for New.

(e) Project Director (PD) (Blocks 16.-19.). Blocks 16.-18. are used to identify the PD and Block 19. to identify co-PDs. If needed, additional co-PDs may be listed on a separate sheet of paper and attached to Form CSREES-2002, the Proposal Cover Page, with the applicable co-PD information and signatures. Listing multiple co-PDs, beyond those required for genuine collaboration, is discouraged.

(f) Other Possible Sponsors (Block 21.). List the names or acronyms of all other public or private sponsors including other agencies within USDA to which your application has been or might be sent. In the event you decide to send your application to another organization or agency at a later date, you must inform the identified CSREES program contact as soon as practicable. Submitting your application to other potential sponsors will not prejudice its review by CSREES; however, submitting the same (i.e., duplicate) application to another CSREES program is not permissible.

Page B

Page B should be submitted only with the original signature copy of the application and should be placed as the last page of the original copy of the application. This page contains personal data on the PD(s). CSREES requests this information in order to monitor the operation of its review and awards processes. This page will not be duplicated or used during the review process. Please note that failure to submit this information will in no way affect consideration of your application.

3. Table of Contents

For consistency and ease in locating information, each application must contain a detailed Table of Contents immediately following the proposal cover page. The Table of Contents should contain page numbers for each component of the application. Page numbering should begin with the first page of the Project Description.

4. Project Summary (Form CSREES-2003)

The application must contain a “Project Summary,” Form CSREES-2003. The summary should be approximately 250 words, contained within the box, placed immediately after the Table of Contents, and not numbered. The names and affiliated organizations of all PDs and co-PDs should be listed on this form, in addition to the title of the project. The summary should be a self-contained, specific description of the activity to be undertaken and should focus on: Overall project goal(s) and supporting objectives; plans to accomplish project goal(s); and relevance of the project to the goals of the Program. The importance of a concise, informative Project Summary cannot be overemphasized for this is the only document that is read by each of the peer panel review members. If there are more than four co-PDs for an application, please list additional co-PD's on a separate sheet of paper (with appropriate information) and attach to the Project Summary (Form CSREES-2003).

5. Project Description

Please Note: The Project Description for a Standard Project request shall not exceed 15 pages of written text and up to five additional pages for figures and tables. The Project Description for a Conference or Workshop proposal is limited to five pages of written text. These limitations (15 pages for Standard Project requests and five pages for Conference/Workshop proposals) have been established to ensure fair and equitable competition.

(a) Standard Project

The Project Description should clearly and concisely indicate how the proposed project will meet the objectives and carry out the procedures identified in Part II—Program Description. This section should contain the following:

An introduction which states the goals and objectives of the proposed activities, documents needs, describes ongoing related activities and includes relevant data;

An approach which identifies (1) Proposed activities and methods, (2) expected outcomes, (3) how outcomes will benefit socially disadvantaged farmers and ranchers, and (4) indicators which will verify program results;

A timetable which specifies expected completion dates for each phase of the project; and

Identification of collaborative arrangements including description(s) of how they contribute to completion of the entire project.

(b) Conference and Workshops

An introduction that states goals and objectives and expected outcomes of the conference/workshop, the rationale and justification for the conference/workshop, and how it would advance the goals and objectives of the OASDFR;

A discussion of the topics to be discussed and why they are relevant to the conference/workshop goals and objectives;

An agenda that identifies the topics and speakers (if letters of commitment are not included in the proposal, list speakers as “invited,” and when commitment letters are received provide signed copies to the CSREES Program Director or the Director of Integrated Programs). Letters of commitment should identify the topic the speaker will be presenting; and

How will the expected results be conveyed to target audiences? What means will be used? Any follow-up activities?

6. References

All references to works cited should be complete, including titles and all co-authors, and should conform to an acceptable journal format. References are not considered in the page limitation for the Project Description.

7. Appendices to Project Description

Appendices to the Project Description are allowed if they are directly germane to the proposed project. The addition of appendices should not be used to circumvent the text and/or figures and tables page limitations. The peer panel reviewers are evaluating a number of proposals; thus, to the extent possible, extraneous material should be kept to a minimum. Letters of commitment from collaborators/subcontractors and letters of support should be included as an appendix.

8. Key Personnel

The following should be included, as applicable:

(a) The roles and responsibilities of each PD and/or collaborator should be clearly described (and documented in the budget and budget justification if receiving project funds); and

(b) Vitae of the PD and each co-PD, senior associate, and other professional personnel. This section should include vitae of all key persons who are expected to work on the project, whether or not CSREES funds are sought for their support. The vitae should be limited to two (2) pages each in length, excluding publications listings. The vitae should include a presentation of academic and research credentials, as applicable; e.g., earned degrees, teaching experience, employment history, professional activities, honors and awards, and grants received. A chronological list of all publications in refereed journals during the past four (4) years, including those in press, must be provided for each project member for whom a curriculum vitae is provided. Also list only those non-refereed technical publications that have relevance to the proposed project. All authors should be listed in the same order as they appear on each paper cited, along with the title and complete reference as these usually appear in journals. Experience in developing and conveying outreach and assistance to the targeted populations are also significant factors that provide the reviewers with enough salient information as to the capabilities of the applicant(s). This material is very important not only in attesting to the qualifications of the project participants but also for determining necessary information for the Conflict-of-Interest form noted below.

9. Collaborative Arrangements

If it will be necessary to enter into formal consulting or collaborative arrangements with others, such arrangements should be fully explained and justified. If the consultant(s) or collaborator(s) are known at the time of application, a vitae or resume should be provided. In addition, evidence (e.g., letter of commitment) should be provided that details what the collaborators have agreed to provide and the costs of those services. The applicant also will be required to provide additional information on consultants and collaborators in the budget portion of the application. See instructions in the application forms for completing Form CSREES-2004, Budget.

10. Conflict-of-Interest List (Form CSREES-2007)

A “Conflict-of-Interest List,” Form CSREES-2007, must be provided for all individuals who have submitted a vitae in response to item 8(b) of this part. Each Form CSREES-2007 should list alphabetically, by the last names, the full names of the individuals in the following categories: (a) All co-authors on publications within the past four years, including pending publications and submissions; (b) all collaborators on projects within the past four years, including current and planned collaborations; (c) all thesis or postdoctoral advisees/advisors within the past four years; and (d) all persons in your field with whom you have had a consulting or financial arrangement within the past four years, who stand to gain by seeing the project funded. This form is necessary to assist program staff in excluding from application review those individuals who have conflicts of interest or appearances of conflicts of interest with the personnel in the grant application. The CSREES Program Director or the Director of Integrated Programs must be informed of any additional conflicts of interest that arise after the application is submitted.

11. Budget

(a) Budget Form (Form CSREES-2004)

Prepare the Budget, Form CSREES-2004, in accordance with instructions provided with the application forms. A budget form is required for each year of requested support. In addition, a cumulative budget is required detailing the requested total support for the overall project period. The budget form may be reproduced as needed by applicants. Funds may be requested under any of the categories listed on the form, provided that the item or service for which support is requested is allowable under the authorizing legislation, the applicable statutes, regulations, and Federal cost principles, and these program guidelines, and can be justified as necessary for the successful conduct of the proposed project. Applicants also must include a budget narrative to justify their budget requests (see item 11(c) of this part).

(b) Indirect Costs

See Part I., E. for specific information about the recovery of indirect costs.

(c) Budget Narrative

All budget categories, with the exception of Indirect Costs, for which support is requested, must be individually listed (with costs) in the same order as the budget and justified on a separate sheet of paper and placed immediately behind the budget form.

12. Current and Pending Support (Form CSREES-2005)

All applications must contain Form CSREES-2005 listing other current public or private support (including in-house support) to which personnel (i.e., individuals submitting a vitae in response to item 8(b) of this part) identified in the application have committed portions of their time, whether or not salary support for person(s) involved is included in the budget. Please follow the instructions provided on this form. Concurrent submission of identical or similar applications to the possible sponsors will not prejudice application review or evaluation by the CSREES. However, an application that duplicates or overlaps substantially with an application already reviewed and funded (or to be funded) by another organization or agency will not be funded under this program. Please note that the project being proposed should be included in the pending section of the form.

13. Assurance Statement(s) (Form CSREES-2008)

A number of situations encountered in the conduct of projects require special assurances, supporting documentation, etc., before funding can be approved for the project. In addition to any other situation that may exist with regard to a particular project, applications involving any of the following elements must comply with the additional requirements as applicable.

(a) Recombinant DNA or RNA Research

As stated in 7 CFR Part 3015.205 (b)(3), all key personnel identified in the application and all endorsing officials of the proposing organization are required to comply with the guidelines established by the National Institutes of Health entitled, “Guidelines for Research Involving Recombinant DNA Molecules,” as revised. If your project proposes to use recombinant DNA or RNA techniques, you must so indicate by checking the “yes” box in Block 20 of Form CSREES-2002 (the Proposal Cover Page) and by completing Section A of Form CSREES-2008. For applicable applications recommended for funding, Institutional Biosafety Committee approval is required before CSREES funds will be released. Please refer to the application forms for further instructions.

(b) Animal Care

Responsibility for the humane care and treatment of live vertebrate animals used in any grant project supported with funds provided by CSREES rests with the performing organization. Where a project involves the use of living vertebrate animals for experimental purposes, all key personnel identified in an application and all endorsing officials of the proposing organization are required to comply with the applicable provisions of the Animal Welfare Act of 1966, as amended (7 U.S.C. 2131 et seq.), and the regulations promulgated thereunder by the Secretary in 9 CFR parts 1, 2, 3, and 4 pertaining to the care, handling, and treatment of these animals. If your project will involve these animals, you should check “yes” in Block 20 of Form CSREES-2002 and complete Section B of Form CSREES-2008. In the event a project involving the use of live vertebrate animals results in a grant award, funds will be released only after the Institutional Animal Care and Use Committee has approved the project. Please refer to the application forms for further instructions.

(c) Protection of Human Subjects

Responsibility for safeguarding the rights and welfare of human subjects used in any grant project supported with funds provided by CSREES rests with the performing organization. Guidance on this issue is contained in the National Research Act, Public Law 93-348, as amended, and implementing regulations promulgated by the Department under 7 CFR Part 1c. If you propose to use human subjects in your project, you should check the “yes” box in Block 20 of Form CSREES-2002 and complete Section C of Form CSREES-2008. Please refer to the application forms for additional instructions.

14. Certifications

Note that by signing Form CSREES-2002 the applicant is providing the certifications required by 7 CFR part 3017, regarding Debarment and Suspension and Drug-Free Workplace, and 7 CFR part 3018, regarding Lobbying. The certification forms are included in the application package for informational purposes only. These forms should not be submitted with the application since by signing Form CSREES-2002 your organization is providing the required certifications. If the project will involve a subcontractor or consultant, the subcontractor/consultant should submit a Form AD-1048, Certification Regarding Debarment, Suspension, Ineligibility and Voluntary Exclusion—Lower Tier Covered Transactions, to the grantee organization for retention in their records. This form should not be submitted to USDA.

15. Compliance with the National Environmental Policy Act (NEPA) (Form CSREES-2006)

As outlined in 7 CFR part 3407 (the Cooperative State Research, Education, and Extension Service regulations implementing NEPA), the environmental data for any proposed project is to be provided to CSREES so that CSREES may determine whether any further action is needed. In some cases, however, the preparation of environmental data may not be required. Certain categories of actions are excluded from the requirements of NEPA.

In order for CSREES to determine whether any further action is needed with respect to NEPA, pertinent information regarding the possible environmental impacts of a particular project is necessary; therefore, Form CSREES-2006, “NEPA Exclusions Form,” must be included in the application indicating whether the applicant is of the opinion that the project falls within a categorical exclusion and the reasons therefore. If it is the applicant's opinion that the proposed project falls within the categorical exclusions, the specific exclusion(s) must be identified.

Even though a project may fall within the categorical exclusions, CSREES may determine that an Environmental Assessment or an Environmental Impact Statement is necessary for an activity, if substantial controversy on environmental grounds exists or if other extraordinary conditions or circumstances are present which may cause such activity to have a significant environmental effect.

16. Certification of Compliance to Section 501(c)(3) of the Internal Revenue Code of 1986

Applicants that are not recognized by the Internal Revenue Service as a Section 501(c)(3) organization must include, on a separate sheet of paper, a statement that they have not, and will not engage in any of the prohibited activities contained in Section 501(c)(3) of the Internal Revenue Code of 1986.

C. Submission of Applications

1. When to Submit (Deadline Date)

Requests for Determination must be submitted by COB on November 22, 2002.

Applications for Standard Projects or Conferences or Workshops must be received by COB on January 31, 2003 (5:00 p.m. Eastern Time). Applications received after this deadline will not be considered for funding.

2. What to Submit

Only a single copy of the Request for Determination (if applicable) is required.

An original and 10 copies of each application must be submitted. In addition, submit 15 copies of the application's Project Summary. All copies of the application and the Project Summary must be submitted in one package.

3. Where To Submit

Applicants must submit via letter or e-mail Requests for Determination to the program contact listed in Part I.D. and in the preamble.

Applicants are strongly encouraged to submit completed applications via overnight mail or delivery service to ensure timely receipt by the CSREES. The address for hand-delivered applications submitted using an express mail or overnight courier service, is:

Outreach and Assistance for Socially Disadvantaged Farmers and Ranchers Competitive Grants Program, c/o Proposal Services Unit, Cooperative State Research, Education, and Extension Service, U.S. Department of Agriculture, Room 1420, Waterfront Centre, 800 9th Street, SW., Washington, DC 20024, Telephone: (202) 401-5048.

Applications sent via the U.S. Postal Service must be sent to the following address:

Outreach and Assistance for Socially Disadvantaged Farmers and Ranchers Competitive Grants Program, c/o Proposal Services Unit, Cooperative State Research, Education, and Extension Service, U.S. Department of Agriculture, STOP 2245, 1400 Independence Avenue, SW., Washington, DC 20250-2245.

D. Acknowledgment of Applications

The receipt of all applications will be acknowledged by e-mail. Therefore, applicants are strongly encouraged to provide accurate e-mail addresses, where designated, on the Form CSREES-2002. If the applicant's e-mail address is not indicated, CSREES will acknowledge receipt of the application by letter.

If the applicant does not receive an acknowledgment within 60 days of the submission deadline, please contact the program contact. Once the application has been assigned a proposal number, please cite that number on all future correspondence.

Part IV—Review Process

A. General

Each application will be evaluated in a 2-part process. First, each application will be screened to ensure that it meets the administrative requirements as set forth in this RFA. Second, a number of expert reviewers will conduct a merit review based on the evaluation criteria. The views of the individual reviewers will be used by CSREES to determine which applications will be recommended to the Administrator for funding. Evaluated applications will be ranked based on merit. Final approval for those applications recommended for an award will be made by the Administrator.

Reviewers will be drawn from a number of areas, among them government, universities, community-based organizations, and other pertinent entities. Reviewers will be selected based upon training and experience in relevant scientific, extension, or education fields, or experience in community-based organizations, taking into account the following factors: (a) The level of relevant formal scientific, technical education, or extension experience of the individual, as well as the extent to which the individual is or has been engaged in providing outreach and assistance to disadvantaged groups; (b) the need to include as reviewers experts from various areas of specialization within relevant community-based organizations and/or scientific, education, or extension fields that provide outreach and assistance to disadvantaged groups; (c) the need to include as reviewers other experts (e.g., members of community-based organizations, producers, range or forest managers/operators, and consumers) who can assess relevance of the applications to targeted audiences and to program needs; (d) the need to include as reviewers experts from a variety of organizational types (e.g., colleges, universities, industry, state and Federal agencies, private profit and non-profit organizations) and geographic locations; (e) the need to maintain a balanced composition of reviewers with regard to minority and female representation and age distribution; and (f) the need to include reviewers who can judge the effective usefulness of outreach and assistance programs for socially disadvantaged farmers and ranchers.

B. Evaluation Criteria

The evaluation criteria noted below will be used in reviewing applications submitted in response to this RFA. The points assigned provide an indication of the relative importance of each section and will be used by the reviewers in evaluating the proposals.

1. Standard Project Proposals

(a) Statement of Work and Needs Being Addressed (50 points)

The degree to which the proposed project addresses the major purposes of the OASDFR and the severity and importance of the needs being addressed. The degree to which the statement of work reflects innovative strategies for providing outreach and assistance to socially disadvantaged groups and the potential for achieving project objectives. Reviewers will be examining originality, practicality, and creativity in developing successful solutions to the problems facing the targeted audience. Responsiveness to the need to provide information and assistance on application procedures and bidding protocols to gain entry into USDA programs, farm and financial management, and other information necessary to enhance participation in USDA and other pertinent programs, conducting successful farming operations, and gaining and maintaining ownership of those operations. Numbers of socially disadvantaged farmers and ranchers that the project intends to assist should be clearly specified. Applications that dovetail or mutually support other on-going related projects are encouraged.

(b) Capabilities of Project Personnel, Institutional Commitment and Collaborations (30 points)

Participating with other agencies, community-based organizations, and other institutions and organizations in undertaking and carrying out such projects often provides a higher level of confidence for project success. Having community involvement and “ownership” in such projects provides evidence that the needs are real, important, and will be successfully addressed. As important is the commitment of the applicant institution or organization in terms of experience and competencies of the project director and collaborators, and the availability of personnel and resources to direct and carry out the project.

(c) Internal Project Evaluation Plan and Verification of Outcomes (20 points)

Reviewers will judge applications as to the merits of a “self-evaluation” plan, or other means by which the project will be managed, significant outcomes achieved, and the reasonableness of timelines. How the Project Directors might react in recommending changes to processes and procedures as a result of unforeseen early successes or failures will be judged as well. The application should address the capacity to: (i) Assemble, summarize, and present data that verify OASDFR outcomes or impacts, and (ii) deliver project materials and results to socially disadvantaged farmers and ranchers, stakeholders, and other OASDFR project leaders.

2. Conferences and Workshops

(a) Rationale and Justification for the Conference/Workshop (30 points)

The degree to which the applicant makes clear the need to have the conference or workshop. Is the conference appropriately justified? Do the conference topic areas address the goals and objectives of the OASDFR? Are there components that could potentially improve or make more effective the OASDFR?

(b) Expected Outcomes (50 points)

Are the expected outcomes of the conference or workshop appropriate, given the goals and objectives of the OASDFR? Are the speakers and participants appropriate given the topic areas to be explored, the rationale and justification, and the goals and objectives of the OASDFR? Will the results be generally useful to other areas?

(c) Agenda (20 points)

Is the agenda logical and reasonable given the rationale and justification and the expected outcomes?

C. Conflicts of Interest and Confidentiality

During the peer evaluation process, extreme care will be taken to prevent any actual or perceived conflicts of interest that may impact review or evaluation. For the purpose of determining conflicts of interest, the academic and administrative autonomy of an institution shall be determined by reference to the 2002 Higher Education Directory, published by Higher Education Publications, Inc., 6400 Arlington Boulevard, Suite 648, Falls Church, Virginia 22042. Phone: (703) 532-2300. Web site: http://www.hepinc.com.

Names of submitting institutions and individuals, as well as application content and peer evaluations, will be kept confidential, except to those involved in the review process, to the extent permitted by law. In addition, the identities of peer reviewers will remain confidential throughout the entire review process. Therefore, the names of the reviewers will not be released to applicants.

Part V—Award Administration

A. General

Within the limit of funds available for such purpose, the awarding official of CSREES shall make grants to those responsible, eligible applicants whose applications are judged most meritorious under the procedures set forth in this RFA. The date specified by the awarding official of CSREES as the effective date of the grant shall be no later than September 30 of the Federal fiscal year in which the project is approved for support and funds are appropriated for such purpose, unless otherwise permitted by law. It should be noted that the project need not be initiated on the grant effective date, but as soon thereafter as practical so that project goals may be attained within the funded project period. All funds granted by CSREES under this RFA shall be expended solely for the purpose for which the funds are granted in accordance with the approved application and budget, the regulations, the terms and conditions of the award, the applicable Federal cost principles, and the Department's assistance regulations (parts 3015, 3016 and 3019 of 7 CFR).

B. Organizational Management Information

Specific management information relating to an applicant shall be submitted on a one-time basis as part of the responsibility determination prior to the award of a grant identified under this RFA, if such information has not been provided previously under this or another CSREES program. CSREES will provide copies of forms recommended for use in fulfilling these requirements as part of the preaward process. Although an applicant may be eligible based on its status as one of these entities, there are factors which may exclude an applicant from receiving Federal financial and nonfinancial assistance and benefits under this program (e.g., debarment or suspension of an individual involved or a determination that an applicant is not responsible based on submitted organizational management information).

C. Award Document and Notice of Award

The grant award document will provide pertinent instructions and information, including at a minimum, the following:

1. Legal name and address of performing organization or institution to whom the Administrator has awarded a grant under the terms of this request for applications;

2. Title of project;

3. Name(s) and institution(s) of PDs chosen to direct and control approved activities;

4. Identifying grant number assigned by the Department;

5. Project period, specifying the amount of time the Department intends to support the project without requiring recompetition for funds;

6. Total amount of Departmental financial assistance approved by the Administrator during the project period;

7. Legal authority(ies) under which the grant is awarded;

8. Appropriate Catalog of Federal Domestic Assistance (CFDA) number;

9. Approved budget plan for categorizing allocable project funds to accomplish the stated purpose of the grant award; and

10. Other information or provisions deemed necessary by CSREES to carry out its respective granting activities or to accomplish the purpose of a particular grant.

Part VI—Additional Information

A. Access to Review Information

Copies of reviews, not including the identity of reviewers, and a summary of the panel comments will be sent to the applicant PD after the review process has been completed.

B. Use of Funds; Changes

1. Delegation of Fiscal Responsibility

Unless the terms and conditions of the grant state otherwise, the grantee may not in whole or in part delegate or transfer to another person, institution, or organization the responsibility for use or expenditure of grant funds.

2. Changes in Project Plans

(a) The permissible changes by the grantee, PD(s), or other key project personnel in the approved project grant shall be limited to changes in methodology, techniques, or other similar aspects of the project to expedite achievement of the project's approved goals. If the grantee or the PD(s) is uncertain as to whether a change complies with this provision, the question must be referred to the Authorized Departmental Officer (ADO) for a final determination. The ADO is the signatory of the award document, not the program contact.

(b) Changes in approved goals or objectives shall be requested by the grantee and approved in writing by the ADO prior to effecting such changes. In no event shall requests for such changes be approved which are outside the scope of the original approved project.

(c) Changes in approved project leadership or the replacement or reassignment of other key project personnel shall be requested by the grantee and approved in writing by the ADO prior to effecting such changes.

(d) Transfers of actual performance of the substantive programmatic work in whole or in part and provisions for payment of funds, whether or not Federal funds are involved, shall be requested by the grantee and approved in writing by the ADO prior to effecting such transfers, unless prescribed otherwise in the terms and conditions of the grant.

(e) Changes in Project Period: The project period may be extended by CSREES without additional financial support, for such additional period(s) as the ADO determines may be necessary to complete or fulfill the purposes of an approved project, but in no case shall the total project period exceed five years. Any extension of time shall be conditioned upon prior request by the grantee and approval in writing by the ADO, unless prescribed otherwise in the terms and conditions of a grant.

(f) Changes in Approved Budget: Changes in an approved budget must be requested by the grantee and approved in writing by the ADO prior to instituting such changes if the revision will involve transfers or expenditures of amounts requiring prior approval as set forth in the applicable Federal cost principles, Departmental regulations, or grant award.

C. Expected Program Outputs and Reporting Requirements

Funded projects will be expected to verify program accomplishments. Evidence of actual or intended beneficial changes in the degree of ownership by socially disadvantaged farmers and ranchers is particularly desirable, in addition to documentation of producer involvement in program activities. The evidence is expected to include participants' assessment of the value of program outreach and assistance activities and suggestions for improvement. Grantees must prepare annual reports that document significant activities or events that show movement toward achieving goals and objectives of the project. The reports should specify performance targets for that period and contain evidence that verifies the extent to which these targets have been met. Approximately one month after the anniversary start date, an annual report format will be provided to the Project Director. This report will compare accomplishments against stated goals, and highlight those assistance and outreach methods that prove to be highly successful.

D. Applicable Federal Statutes and Regulations

Several Federal statutes and regulations apply to grant applications considered for review and to project grants awarded under this program. These include, but are not limited to:

7 CFR part 1, subpart A—USDA implementation of the Freedom of Information Act.

7 CFR part 3—USDA implementation of OMB Circular No. A-129 regarding debt collection.

7 CFR part 15, subpart A—USDA implementation of Title VI of the Civil Rights Act of 1964, as amended.

7 CFR part 3015—USDA Uniform Federal Assistance Regulations, implementing OMB directives (i.e., OMB Circular Nos. A-21 and A-122) and incorporating provisions of 31 U.S.C. 6301-6308 (formerly the Federal Grant and Cooperative Agreement Act of 1977, Public Law No. 95-224), as well as general policy requirements applicable to recipients of Departmental financial assistance.

7 CFR part 3016—Uniform Administrative Requirements for Grants and Cooperative Agreements to State and Local Governments.

7 CFR part 3017—USDA implementation of Governmentwide Debarment and Suspension (Nonprocurement) and Governmentwide Requirements for Drug-Free Workplace (Grants).

7 CFR part 3018—USDA implementation of Restrictions on Lobbying. Imposes prohibitions and requirements for disclosure and certification related to lobbying on recipients of Federal contracts, grants, cooperative agreements, and loans.

7 CFR part 3019—USDA implementation of OMB Circular A-110, Uniform Administrative Requirements for Grants and Other Agreements With Institutions of Higher Education, Hospitals, and Other Nonprofit Organizations.

7 CFR part 3052—USDA implementation of OMB Circular No. A-133, Audits of States, Local Governments, and Non-profit Organizations.

7 CFR part 3407—CSREES procedures to implement the National Environmental Policy Act of 1969, as amended.

29 U.S.C. 794 (section 504, Rehabilitation Act of 1973) and 7 CFR part 15b (USDA implementation of statute)—prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR part 401).

E. Confidential Aspects of Applications and Awards

When an application results in a grant, it becomes a part of the record of CSREES transactions, available to the public upon specific request. Information that the Secretary determines to be of a confidential, privileged, or proprietary nature will be held in confidence to the extent permitted by law. Therefore, any information that the applicant wishes to have considered as confidential, privileged, or proprietary should be clearly marked within the application. The original copy of an application that does not result in a grant will be retained by the Agency for a period of one year. Other copies will be destroyed. Such an application will be released only with the consent of the applicant or to the extent required by law. An application may be withdrawn at any time prior to the final action thereon.

F. Regulatory Information

For the reasons set forth in the final Rule-related Notice to 7 CFR part 3015, subpart V (48 FR 29114, June 24, 1983), this program is excluded from the scope of the Executive Order 12372 which requires intergovernmental consultation with State and local officials. Under the provisions of the Paperwork Reduction Act of 1995 (44 U.S.C. chapter 35), the collection of information requirements contained in this Notice have been approved under OMB Document No. 0524-0039.

G. Definitions

For the purpose of this program, the following definitions are applicable:

(1) 1890 Land-Grant Colleges means one of those institutions eligible to receive funds under the Act of August 30, 1890, as amended (7 U.S.C. 321 et seq.), including Tuskegee University and West Virginia State College.

(2) Administrator means the Administrator of the Cooperative State Research, Education, and Extension Service (CSREES) and any other officer or employee of the Department to whom the authority involved is delegated.

(3) Agricultural Programs means those activities established or authorized by: the Agricultural Act of 1949 (7 U.S.C. 1421 et seq.); the Consolidated Farm and Rural Development Act (7 U.S.C. 1921 et seq.); the Agricultural Adjustment Act of 1938 (7 U.S.C. 1281 et seq.); the Soil Conservation Act; the Domestic Allotment Assistance Act; the Food Security Act of 1985; and other such acts as determined by the Administrator, Cooperative State Research, Education, and Extension Service, USDA, on a case-by-case basis either at the Administrator's initiative or in response to a written request with supporting explanation for inclusion of an Act. Covered programs include, but are not limited to, agricultural conservation program, programs comprising the environmental conservation acreage reserve program (ECARP), conservation technical assistance program, emergency conservation program, forestry incentives program, Great Plains Conservation Program, integrated farm management option program, price support and production adjustment program, rural environmental conservation program, soil survey program, water bank program, and the farm loan programs (farm ownership, operating soil and water, and emergency loans).

(4) Alaska Native means a citizen of the United States who is a person of one-fourth degree or more Alaska Indian (including Tsimshian Indians not enrolled in the Metlaktla Indian Community), Eskimo, or Aleut blood, or combination thereof. It also includes, in the absence of proof of a minimum blood quantum, any citizen of the United States who is regarded as an Alaska Native by the Native Village or Native group of which he claims to be a member and whose father or mother is (or if deceased, was) regarded as Native by any village or group.

(5) Alaska Native cooperative colleges means any post-secondary education institution that at the time of application, has an enrollment of undergraduate students that is at least 20 percent Alaska Native students.

(6) Assistance means providing hands-on assistance through workshops, site visits and other means of contact with socially disadvantaged farmers and ranchers to enable them to understand the application process and to apply for or to take advantage of USDA and other relevant and pertinent programs. Assistance is also defined as providing guidance and help in understanding the process and procedures for applying for grants, loans, mortgages, or other financial resources that assist socially disadvantaged farmers and ranchers in gaining ownership of their farming and ranching operations.

(7) Authorized departmental officer means the Secretary or any employee of the Department who has the authority to issue or modify grant instruments on behalf of the Secretary.

(8) Authorized organizational representative means the president, director, chief executive officer, or other designated official of the applicant organization, who has the authority to commit the resources of the organization.

(9) Budget period means the interval of time (usually 12 months) into which the project period is divided for budgetary and reporting purposes.

(10) Community-based organization means a nongovernmental organization with a well-defined constituency that includes all or part of a particular community; e.g., communities consisting of socially disadvantaged farmers and ranchers.

(11) Department or USDA means the United States Department of Agriculture.

(12) Enrollment of needy students means an enrollment at an institution with respect to which: (a) At least 50 percent of the degree students so enrolled are receiving need-based Federal financial assistance, including the Federal Work-study Program, in the second year preceding the fiscal year for which the determination is made (other than loans for which an interest subsidy is paid pursuant to 20 U.S.C. 1708); or (b) a substantial percentage of the students so enrolled are receiving Federal Pell Grants in the second fiscal year preceding the fiscal year for which determination is made, compared to the percentage of students receiving Federal Pell Grants at all such institutions in the second fiscal year preceding the fiscal year for which the determination is made.

(13) Extension activity means an act or process that delivers science-based knowledge and informal educational programs to people, enabling them to make practical decisions.

(14) Farmer/Rancher means an owner and/or operator who has a vested interest in the operation of the farm or ranch.

(15) Grant means the award by the Secretary of funds to an eligible organization or individual to assist in meeting the costs of conducting, for the benefit of the public, an identified project which is intended and designed to accomplish the purpose of the program as identified in these guidelines.

(16) Grantee means the organization designated in the grant award document as the responsible legal entity to which a grant is awarded.

(17) Hispanic serving post-secondary educational institution means a post-secondary educational institution that: (a) At the time of application, has an enrollment of undergraduate full-time equivalent students that is at least 25 percent Hispanic students; and (b) provides assurances that not less than 50 percent of the institution's Hispanic students are low-income individuals.

(18) Indian Tribe or national tribal organization means any Indian tribe, band, nation, or other organized group or community, including any Alaska Native village or regional or village corporation as defined in or established pursuant to the Alaska Native Claims Settlement Act (85 Stat. 688) (43 U.S.C. 1601 et seq.), which is recognized as eligible for the special programs and services provided by the United States to Indians because of their status as Indians.

(19) Indian Tribal Community Colleges means a post-secondary education institution which: (a) Is formally controlled, or has been officially sanctioned, or chartered, by the governing body of an Indian tribe or tribes, except no more than one such institution shall be recognized with respect to any such tribe; and (b) includes an institution listed in the Equity in Educational Land Grant Status Act of 1994, as amended (7 U.S.C. 301 note). The 1994 Land-Grant Institutions are: Bay Mills Community College, Blackfeet Community College, Cankdeska Cikana Community College, College of Menominee Nation, Crownpoint Institute of Technology, D-Q University, Dine Community College, Chief Dullknife Memorial College, Fond Du Lac Tribal and Community College, Fort Belknap College, Fort Berthold Community College, Fort Peck Community College, Haskell Indian Nations University, Institute of American Indian and Alaska Native Culture and Arts Development, Lac Courte Orielles Ojibwa Community College, Leech Lake Tribal College, Little Big Horn College, Little Priest Tribal College, Nebraska Indian Community College, Northwest Indian College, Oglala Lakota College, Salish Kootenai College, Sinte Gleska University, Sisseton Wahpeton Community College, Si Tanka/Huron University, Sitting Bull College, Southwestern Indian Polytechnic Institute, Stone Child College, Turtle Mountain Community College, United Tribes Technical College, and White Earth Tribal and Community College.

(20) Institution of Higher Education means an educational institution in any State that (a) Admits as regular students only persons having a certificate of graduation from a school providing secondary education, or the recognized equivalent of such a certificate; (b) is legally authorized within such State to provide a program of education beyond secondary education; (c) provides an educational program for which the institution awards a bachelor's degree or provides not less than a 2-year program that is acceptable for full credit toward such a degree; (d) is a public or other nonprofit institution; and (e) is accredited by a nationally recognized accrediting agency or association, or if not so accredited, is an institution that has been granted preaccreditation status by such an agency or association that has been recognized by the Secretary of Education for the granting of preaccreditation status, and the Secretary of Education has determined that there is satisfactory assurance that the institution will meet the accreditation standards of such an agency or association within a reasonable time.

(21) Junior or Community College means an institution of higher education: (a) That admits as regular students persons who are beyond the age of compulsory school attendance in the State in which the institution is located and who have the ability to benefit from the training offered by the institution; (b) that does not provide an educational program for which the institution awards a bachelor's degree (or an equivalent degree); and (c) that (i) provides an educational program for not less than 2 years in duration that is acceptable for full credit toward such a degree; or (ii) offers a 2-year program in engineering, mathematics, or the physical or biological sciences, designed to prepare a student to work as a technician or at the semiprofessional level in engineering, scientific, or other technological fields requiring an understanding and application of basic engineering, scientific, or mathematical principles of knowledge.

(22) Low-income individual means an individual from a family whose taxable income for the preceding year did not exceed 150 percent of an amount equal to the poverty level determined using criteria of poverty established by the Bureau of the Census.

(23) Outreach means the use of formal and informal educational presentations, materials, website materials, etc. that are designed to inform socially disadvantaged farmers and ranchers about USDA programs, other relevant and pertinent programs, and improvements in farm and ranch management in its many dimensions with the purpose of increasing participation in USDA programs and rates of ownership and operation of farms and ranches by members of socially disadvantaged groups.

(24) Partnering means a joint effort among two or more institutions, organizations and/or other entities with the capacity to conduct projects intended and designed to accomplish the purpose of the program.

(25) Peer review means an evaluation of a proposed project for scientific or technical quality and relevance performed by experts with the scientific knowledge and technical skills to conduct the proposed work or to give expert advice on the merits of a project.

(26) Peer review panel means a group of experts qualified by training and/or experience in particular fields to evaluate eligible proposals in those fields submitted under this RFA.

(27) Performance target means expected measurable accomplishments that can be used to document the extent of change brought about by the project.

(28) Prior approval means written approval evidencing prior consent by an authorized departmental officer as defined in (7) above.

(29) Project means the particular activity within the scope of the program supported by a grant award.

(30) Project period means the period, as stated in the award document, during which Federal sponsorship begins and ends.

(31) Project Director means the individual responsible for the technical direction and management of the project, as designated by the awardee in the proposal and approved by the Authorized Departmental Officer.

(32) Secretary means the Secretary of Agriculture and any other officer or employee of the Department to whom the authority involved is delegated.

(33) Socially disadvantaged farmer or rancher means a farmer or rancher who is a member of a socially disadvantaged group.

(34) Socially disadvantaged group means a group whose members have been subjected to racial or ethnic prejudices because of their identity as members of a group without regard to their individual qualities. Socially disadvantaged groups include, but are not limited to, African Americans, Native Americans, Alaskan Natives, Hispanics, Asians, and Pacific Islanders. The Secretary will determine on a case-by-case basis whether additional groups qualify under this definition, either at the Secretary's initiative or in response to a written request with supporting explanation.

Done at Washington, DC this 30th day of October, 2002.
Colien Hefferan,
Administrator, Cooperative State Research, Education, and Extension Service.

[FR Doc. 02-28159 Filed 11-5-02; 8:45 am]

BILLING CODE 3410-22-P